FINANCIAL CRISIS INQUIRY COMMISSION

Notice of Open Meeting

SUMMARY: The Financial Crisis Inquiry Commission (FCIC) announces that it will hold its first public hearing, in which the Commission will begin its thorough examination of the root causes of the crisis by hearing testimony on the causes and current state of the crisis. Top leaders of both private and public sector entities that played critical roles in the crisis will testify.

DATES: The open meeting will be held on Wednesday, January 13, 2010, and Thursday, January 14, 2010, commencing on both days at 9 a.m.

ADDRESSES: The open meeting will be held in the hearing room of the Committee on Ways and Means U.S. House of Representatives, 1100 Longworth House Office Building, Washington, DC 20515.

FOR FURTHER INFORMATION CONTACT: The Financial Crisis Inquiry Commission, 1717 Pennsylvania Avenue, Suite 800, Washington, DC 20006, 202-292-2799, 202-632-1604 fax.

SUPPLEMENTARY INFORMATION: The purpose of the Financial Crisis Inquiry Commission is to examine the causes, domestic and global, of the current financial and economic crisis in the United States, per the requirements of the Fraud Enforcement and Recovery Act of 2009 (“FERN's), Section 5, Public Law 111-21,123 Stat. 1617 (2009).

Public Participation:The meeting is open to the public. The Chairman of the Commission will lead the meeting for the orderly conduct of business.

Dated: January 7, 2009.
Phil Angelides,
Chairman, Financial Crisis Inquiry Commission.

[FR Doc. 2010-442 Filed 1-11-10; 8:45 am]

BILLING CODE 6820-RK-M